DEPARTMENT OF TRANSPORTATION

National Highway Traffic Safety Administration

[Docket No. NHTSA-2017-0042; Notice 1]

BMW of North America, LLC, Receipt of Petition for Decision of Inconsequential Noncompliance

AGENCY: National Highway Traffic Safety Administration (NHTSA), Department of Transportation (DOT).

ACTION: Receipt of petition.

SUMMARY: BMW of North America, LLC (BMW), a subsidiary of BMW AG, Munich, Germany, has determined that certain model year (MY) 2018 BMW M4 Coupe and BMW M4 convertible motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. BMW filed a noncompliance report dated April 26, 2017. BMW also petitioned NHTSA on May 19, 2017, for a decision that the subject noncompliance is inconsequential as it relates to motor vehicle safety.

DATES: The closing date for comments on the petition is September 25, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations,M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: BMW of North America, LLC (BMW), a subsidiary of BMW AG, Munich, Germany, has determined that certain model year (MY) 2018 BMW M4 Coupe and BMW M4 convertible motor vehicles do not fully comply with one or more of the following paragraphs: S4.3(a), S4.3(c) and S4.3(d) of FMVSS No. 110, Tire Selection and Rims and Motor Home/Recreation Vehicle Trailer Load Carrying Capacity Information for Motor Vehicles with a GVWR of 4,536 kilograms (10,000 pounds) or Less. BMW filed a noncompliance report dated April 26, 2017, pursuant to 49 CFR part 573, Defect and Noncompliance Responsibility and Reports. BMW also petitioned NHTSA on May 19, 2017, pursuant to 49 U.S.C. 30118(d) and 30120(h) and 49 CFR part 556, for an exemption from the notification and remedy requirements of 49 U.S.C. Chapter 301 on the basis that this noncompliance is inconsequential as it relates to motor vehicle safety.

This notice of receipt of BMW's petition is published under 49 U.S.C. 30118 and 30120 and does not represent any agency decision or other exercise of judgment concerning the merits of the petition.

II. Vehicles Involved: Approximately 93 MY 2018 BMW M4 Coupe and BMW M4 convertible motor vehicles, manufactured between February 28, 2017, and March 24, 2017, are potentially involved.

III. Noncompliance: BMW describes three noncompliances of the affected vehicles equipped with a Tire Information Placard that may not fully conform to FMVSS No. 110. Although the affected vehicles were properly equipped with 20-inch tires, the FMVSS No. 110 Tire Information Placard states that the vehicles were equipped with 18-inch tires. Additionally, the placard for the BMW M4 Coupe states a vehicle capacity weight of 390kg although it should state a vehicle capacity weight of 381kg. Furthermore, the placard for the BMW M4 Convertible states a manufacturer's recommended cold tire inflation pressure of 32psi when it should state a tire inflation pressure of 33psi.

IV. Rule Text: Paragraph S4.3 of FMVSS No. 110 states in pertinent part:

S4.3 Placard. Each vehicle, except for a trailer or incomplete vehicle, shall show the information specified in S4.3(a) through (g), and may show at the manufacturer's option, the information specified in S4.3 (h) and (i), on a placard permanently affixed to the driver's side B-pillar . . .

(a) Vehicle capacity weight expressed as “The combined weight of occupants and cargo should never exceed XXX kilograms or XXX pounds . . .

(c) Vehicle manufacturer's recommended cold tire inflation pressure for front, rear and spare tires, subject to the limitations of S4.3.4. For full size spare tires, the statement “see above” may, at the manufacturer's option replace manufacturer's recommended cold tire inflation pressure. If no spare tire is provided, the word “none” must replace the manufacturer's recommended cold tire inflation pressure.

(d) Tire size designation indicated by the headings “size” or “original tire size” or “original size,” and “spare tire” or “spare,” for the tires installed at the time of the first purchase for purposes other than resale. For full size spare tires, the statement “see above” may, at the manufacturer's option replace the tire size designation. If no spare tire is provided, the word “none” must replace the tire size designation; . . .

V. Summary of BMW's Petition: BMW described the subject noncompliance and stated its belief that the noncompliance is inconsequential as it relates to motor vehicle safety.

In support of its petition, BMW submitted the following reasoning:

1. BMW M4 Coupe—Although affected vehicles were properly equipped with 20-inch tires, the FMVSS No. 110 Tire Information Placard incorrectly states that the vehicles are equipped with 18-inch tires. It also incorrectly states a vehicle capacity weight of 390kg. The placard should state that the vehicles are equipped with 20-inch tires and have a vehicle capacity weight of 381kg.

The vehicle capacity weight of 390kg will not result in a vehicle overload condition as explained in further detail below.

a. Assessment of Additional Vehicle Capacity Weight—An analysis was performed regarding the potential adverse effect of the additional 9kg on vehicle braking, steering, and stability. Vehicle components and system including brakes, steering, and suspension were evaluated. It was determined that there would not be any adverse impact on these vehicle systems due to robustness in vehicle design. In other words, the vehicle was designed to account for a larger vehicle capacity weight than the weight stated on the tire information placard.

b. Part 567 Certification Label—Affected vehicles are equipped with a Part 567 Certification Label which states accurate information for the Gross Vehicle Weight Rating (GVWR). Therefore, a vehicle operator who uses this information would be able to determine the correct maximum vehicle weight.

2. BMW M4 Convertible—Although affected vehicles were properly equipped with 20-inch tires, the FMVSS No. 110 Tire Information Placard incorrectly states that the vehicles were equipped with 18-inch tires, and incorrectly states a manufacturer's recommended cold tire inflation pressure of 32psi. The placard should state that the vehicles are equipped with 20-inch tires and have a manufacturer's recommended cold tire inflation pressure of 33psi.

The manufacturer's recommended cold tire inflation pressure of 32psi will not result in a vehicle overload condition as explained in further detail below.

a. Using Tire Information Placard to Set Tire Pressure

i. Assessment Using Tire Pressure Information—(Front Tires)—The FMVSS No. 110 Tire Information Placard identifies a front tire size of “255/40 R 18” with a recommended cold tire inflation pressure of 32psi (220kPa). The load rating from the European Tire and Rim Technical Organization (ETRTO) table at 32psi (220kPa) is 605kg for a tire with a load index of 94. Note that the equipped tires are Extra Load (XL) tires, and that the ETRTO standards require the use of the Standard Load table for tire pressures up to 250kPa (36psi). The sum of the load ratings for the front tires is 1,210kg. As noted, the GAWR (front) is 1,050kg. Therefore, the 20-inch front tires, inflated to 32psi, are sufficient to support vehicle loading.

(Rear Tires)—The FMVSS No. 110 Tire Information Placard identifies a rear tire size of “275/40 R 18” with a recommended cold tire inflation pressure of 32psi (220kPa). The load rating from the European Tire and Rim Technical Organization (ETRTO) table at 32psi (220kPa) is 700kg for a tire with a load index of 99. It should be noted that the equipped tires are Extra Load (XL) tires, and also that the ETRTO standards state to use the Standard Load table for tire pressures up to 250kPa (36psi). The sum of the load ratings for the rear tires is 1,400kg. As noted, the GAWR (rear) is 1,250kg. Therefore, the 20-inch rear tires, inflated to 32psi, are sufficient to support vehicle loading.

ii. Assessment Using Tire Load Limits—FMVSS No. 110 Section 4.2.1 (Tire Load Limits for Passenger Cars) states, in subsection 4.2.1.2:

“The vehicle normal load on the tire shall not be greater than 94 percent of the load rating at the vehicle manufacturer's recommended cold inflation pressure for that tire.”

The BMW M4 Convertible has a curb weight of 1,841kg (manual transmission) and 1,866kg (automatic transmission) and a seating capacity of 4 occupants.

In order to determine the vehicle normal load per tire, the automatic transmission weight is used as “worst case scenario” as it is larger than the manual transmission weight. The vehicle normal load per tire is calculated, per ETRTO standards, by distributing 2 occupants (for a 4 occupant vehicle), at the front axle.

Using the required weight of 68kg per occupant results in a vehicle normal load per front tire of 534kg and a normal load per rear tire of 466kg.

(Front Tires)—As noted above, the load rating for the front tires is 605kg.

According to FMVSS No. 110 Section 4.2.1.2, “[T]he vehicle normal load on the tire shall not be greater than 94 percent of the load rating at the vehicle manufacturer's recommended cold inflation pressure for that tire.” Using the load rating of 605kg results in a “94% load rating” of 568kg. As noted above, the vehicle normal load per front tire is 534kg and therefore is within the limit required by Section 4.2.1.2.

(Rear Tires)—As noted above, the load rating for the rear tires is 700kg.

According to FMVSS No. 110 Section 4.2.1.2, “[T]he vehicle normal load on the tire shall not be greater than 94 percent of the load rating at the vehicle manufacturer's recommended cold inflation pressure for that tire.” Using the load rating of 700kg results in a “94% load rating” of 658kg. As noted above, the vehicle normal load per rear tire is 466kg and therefore is within the limit required by Section 4.2.1.2.

b. Using Other Information Source To Set Tire Pressure—If a vehicle operator notices that the tires identified on the tire information placard do not correspond to the tires equipped on the vehicle, there are a number of information sources and services available that can be used to identify the correct tire pressure and, therefore, achieve the proper inflation level for the tires equipped on the vehicle.

i. Sources That Point to the Vehicle Owner's Manual—

—FMVSS No. 110 Section 4.3(f) requires that the tire information placard contain the following statement: “See Owner's Manual for Additional Information.” Therefore, the tire information placard will help point the vehicle operator to the Owner's Manual in order to identify the correct tire inflation pressures for use on the vehicle.

—FMVSS No. 138 Section 4.5(a) requires that the Owner's Manual contain the following text: “Each tire, including the spare (if provided), should be checked monthly when cold and inflated to the inflation pressure recommended by the vehicle manufacturer on the vehicle placard or tire inflation pressure label. (If your vehicle has tires of a different size than the size indicated on the vehicle placard or tire inflation pressure label, you should determine the proper tire inflation pressure for those tires.)” (Emphasis added.)

Vehicle operators who attempt to check the vehicle's tire pressure on a routine schedule (e.g. monthly, as noted above), or when necessary, would be pointed to the Owner's Manual for additional clarifying information. Therefore, after reviewing this information, it is likely that they would inflate the tires to the recommended cold tire inflation pressure.

A vehicle operator could check the specific tires installed on the vehicle which, in this case, are 20-inch tires. The information that is stamped onto the sidewall of the tires identifies the tire size. Subsequent to checking and identifying the installed tires, the vehicle operator could consult the vehicle Owner's Manual, or contact BMW Roadside Assistance™, BMW Assist™, or BMW Customer Relations, for further information in order to set the correct tire pressure.

ii. Owner's Manual—The vehicle Owner's Manual contains information pertaining to the various tire sizes and tire pressures available for use on the affected vehicles.

Affected vehicles contain a tire information placard identifying that the vehicles as being equipped with 18-inch tires even though they are equipped with 20-inch tires. Therefore, a vehicle operator would be able to check the Owner's Manual, identify the correct tires equipped on the vehicle, and then set the tire inflation pressures to the correct levels.

Additionally, affected vehicles are also equipped with an in-vehicle electronic Owner's Manual accessed through the iDrive™ controller containing the same information as in the hardcopy Owner's Manual.

Furthermore, the electronic Owner's Manual also contains contact information for BMW Roadside Assistance™, and if so equipped, also with BMW Assist™, and BMW Customer Relations. Vehicle operators can use these additional information sources and services to identify the correct tires equipped on the vehicle, and then set the tire inflation pressures to the correct levels.

iii. BMW Roadside Assistance™—BMW Roadside Assistance™ (available 24 hours/day) representatives have information available indicating by vehicle model and model year, all of the available tire sizes and specifications for the affected vehicles. All affected vehicles contain a reference to, and instructions for contacting, BMW Roadside Assistance™ in the vehicle Owner's Manual. Therefore, if contacted, BMW Roadside Assistance™ would be able to help the vehicle operator determine the correct tire pressures for use on the vehicle.

Vehicle operators are able to contact BMW Roadside Assistance™ using the toll-free telephone number located:

—On the BMW Roadside Assistance™ Card included in the vehicle's portfolio

—On one or more BMW Roadside Assistance™ Labels in the vehicle

—Within the vehicle's Quick Reference Guide

—Within the vehicle's Service Warranty Book

Vehicle operators are also able to contact BMW Roadside Assistance™ using the:

—In-vehicle iDrive™ controller and menu option for BMW Roadside Assistance™

—In-vehicle emergency call button on the overhead console

iv. BMW Assist™—BMW Assist™ (available 24 hours/day) representatives have information available indicating, by vehicle model and model year, all of the available tire sizes and specifications for the affected vehicles. All affected vehicles contain a reference to, and instructions for, contacting BMW Assist™ in the vehicle Owner's Manual. Therefore, if contacted, BMW Assist™ would be able to help the vehicle operator determine the correct tire pressures for use on the vehicle.

Vehicle operators are able to contact BMW Assist™ by using the:

—In-vehicle iDrive™ controller and menu option for BMW Assist™

—In-vehicle emergency call button on the overhead console

Vehicles with BMW Assist™ contain a BMW Assist™ Book located in the vehicle's portfolio with contact information for BMW Assist™, BMW Roadside Assistance™, and BMW Customer Relations.

v. BMW Customer Relations—If a vehicle operator contacts BMW Customer Relations, and provides the Vehicle Identification Number, a Customer Relations representative will be able to inform the vehicle operator of the specific vehicle configuration. Therefore, if contacted, BMW Customer Relations would be able to help the vehicle operator determine the correct tire pressures for use on the vehicle.

Vehicle operators are able to contact BMW Customer Relations by:

—Using the toll-free telephone number identified in the vehicle Owner's Manual and the Service and Warranty Book

—Using the in-vehicle iDrive™ controller and menu option for BMW Customer Relations

—Contacting BMW Assist™ which can, if necessary, transfer the vehicle operator to BMW Customer Relations

3. Field Experience—Owner Contacts to BMW Customer Relations—BMW Customer Relations has not received any contacts from vehicle owners regarding these issues. Therefore, BMW is unaware that any vehicle owner has encountered these issues.

Accidents/Injuries—BMW is unaware of any accidents or injuries that have occurred as a result of these issues.

4. Prior NHTSA Grants to Manufacturer Petitions—NHTSA has previously granted petitions for Inconsequential Noncompliance regarding FMVSS No. 110 involving vehicles for which the tire information placard contained tire size and tire pressure information which did not match the tires equipped on the vehicle. In some of these instances, even though the tire information placard identified a manufacturer's recommended cold tire inflation pressure that was less than the value required for the tires equipped on the vehicle, the load carrying capacity of the equipped tires, at this lower tire pressure, was still sufficient and would not lead to a vehicle overload condition.

5. Vehicle Production—Vehicle production has been corrected to conform to FMVSS No. 110 Section 4.3(a), 4.3(C) and 4.3(d).

BMW concluded by expressing the belief that the subject noncompliances are inconsequential as they relate to motor vehicle safety, and that its petition to be exempted from providing notification of the noncompliance, as required by 49 U.S.C. 30118, and a remedy for the noncompliance, as required by 49 U.S.C. 30120, should be granted.

To view BMW's petition analyses and any supplemental information in its entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that BMW no longer controlled at the time it determined that the noncompliance existed. However, any decision on this petition does not relieve vehicle distributors and dealers of the prohibitions on the sale, offer for sale, or introduction or delivery for introduction into interstate commerce of the noncompliant vehicles under their control after BMW notified them that the subject noncompliance existed.

Authority: 49 U.S.C. 30118, 30120: Delegations of authority at 49 CFR 1.95 and 501.8

Jeffrey M. Giuseppe,
Director, Office of Vehicle Safety Compliance.

[FR Doc. 2017-17998 Filed 8-24-17; 8:45 am]

BILLING CODE 4910-59-P